DEPARTMENT OF COMMERCE

International Trade Administration

[Application No. 85-13A18]

Export Trade Certificate of Review

ACTION: Notice of Issuance of an Amended Export Trade Certificate of Review to U.S. Shippers Association.

SUMMARY: The U.S. Department of Commerce has issued an amended Export Trade Certificate of Review (“Certificate”) to the U.S. Shippers Association (“USSA”) on November 27, 2007. USSA's application to amend its Certificate was announced in the Federal Register on September 14, 2007 (72 FR 52552), and an amended notice of application for amendment was published on October 4, 2007 (72 FR 56727). The original Certificate No. 85-00018 was issued to USSA on June 3, 1986, and announced in the Federal Register on June 9, 1986 (51 FR 20873). The previous amendment (No. 85-12A018) was issued to USSA on April 6, 2006, and announced in the Federal Register April 12, 2006 (71 FR 18721).

FOR FURTHER INFORMATION CONTACT: Jeffrey Anspacher, Director, Export Trading Company Affairs, International Trade Administration, by telephone at (202) 482-5131 (this is not a toll-free number) or E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR part 325 (2006).

Export Trading Company Affairs is issuing this notice pursuant to 15 CFR 325.6(b), which requires the Department of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Amended Certificate

USSA's Export Trade Certificate of Review has been amended to:

1. Add each of the following companies and persons as a new “Member” of the Certificate within the meaning of section 325.2(1) of the Regulations (15 C.F.R. 325.2(1)): Taminco, Inc.; Taminco Higher Amines, Inc.; and Taminco Methylamines, Inc., each located in Allentown, PA, and Salvatore Di Paola and Carrie M. Bowden, both of Missouri City, TX; and

2. Delete Bayer CropScience, located in Research Triangle Park, NC.

The effective date of the amended certificate is September 4, 2007, the date on which USSA's application to amend was deemed submitted. A copy of the amended Certificate will be kept in the International Trade Administration's Freedom of Information Records Inspection Facility, Room 4001, U.S. Department of Commerce, 14th Street and Constitution Avenue, NW., Washington, DC 20230.

Dated: November 28, 2007.
Jeffrey Anspacher,
Director, Export Trading Company Affairs.

[FR Doc. E7-23501 Filed 12-3-07; 8:45 am]

BILLING CODE 3510-DR-P